DEPARTMENT OF THE INTERIOR

Bureau of Indian Affairs

[245A2100DD/AAKC001030/A0A501010.999900]

Advisory Board of Exceptional Children

AGENCY: Bureau of Indian Affairs, Interior

ACTION: Notice of meeting.

SUMMARY: The Bureau of Indian Education (BIE) is announcing that the Advisory Board for Exceptional Children will hold a one-day online meeting. The purpose of the meeting is to meet the mandates of the Individuals with Disabilities Education Act of 2004 (IDEA) for Indian children with disabilities.

DATES: The BIE Advisory Board meeting will be held Tuesday, June 18, 2024, from 10:10 a.m. to 4:00 p.m. MST. There will also be a 2-hour training for board members only, Tuesday, June 18, 2024, from 8:00 a.m. to 10:00 p.m. MST.

ADDRESSES: This meeting will be conducted online. To attend, participants may use this link to register: https://www.zoomgov.com/meeting/register/vJItdeGrqj4tE1oyFLOYDCyPdIuS5bEh3uE Attendees register once and can attend one or both meeting events. After registering, you will receive a confirmation email containing information about joining the meeting.

Comments: Public comments can be emailed to the DFO at Jennifer.davis@bie.edu; or faxed to (602) 265-0293 Attention: Jennifer Davis, DFO; or mailed or hand delivered to the Bureau of Indian Education, Attention: Jennifer Davis, DFO, 2600 N. Central Ave., 12th floor, Suite 250, Phoenix, AZ 85004.

FOR FURTHER INFORMATION CONTACT: Jennifer Davis, Designated Federal Officer, Bureau of Indian Education, 2600 N. Central Ave., 12th floor, Suite 250, Phoenix, AZ 85004, Jennifer.Davis@bie.edu, or mobile phone (202) 860-7845.

SUPPLEMENTARY INFORMATION: In accordance with the Federal Advisory Committee Act (5 U.S.C. 10), the BIE is announcing the Advisory Board will hold its next meeting online. The Advisory Board was established under the Individuals with Disabilities Act of 2004 (20 U.S.C. 1400 et seq.) to advise the Secretary of the Interior, through the Assistant Secretary-Indian Affairs, on the needs of Indian children with disabilities. All meetings, including virtual sessions, are open to the public in their entirety.

Meeting Agenda Items

The following agenda items will be for the June 18, 2024, meeting:

• The Technical Assistance for Excellence in Special Education (TAESE) will provide a 2-hour training session for BIE Advisory Board members only, 8:00 a.m. to 10:00 a.m. MST.

• The BIE's Division of Performance and Accountability will provide Special Education updates about: BIE Summer Trainings (Principal Leadership Academy, Interactive Data Workshop, Fiscal Management); BIE Annual Performance Data; and the BIE Special Education Policy & Procedures Handbook.

• The entire afternoon session from 12:10 to 4:00 p.m. MST, the Advisory Board will work on identifying priority topics for the annual report, wrap-up important decisions, discuss outstanding tasks, and discuss next steps.

• A Public Comment Session will be offered to the general public on Tuesday, June 18, 2024, from 10:15 a.m. to 4:00 p.m. MST. Public comments can be provided verbally via webinar or in writing using the chat box throughout the public meeting. Public comments can also be emailed to the DFO at Jennifer.Davis@bie.edu; or faxed to (602) 265-0293 Attention: Jennifer Davis, DFO; or mailed or hand delivered to the Bureau of Indian Education, Attention: Jennifer Davis, DFO, 2600 N. Central Ave. 12th floor, Suite 250, Phoenix, Arizona 85004.

Accommodation Requests

Please make requests in advance for sign language interpreter services, assistive listening devices, language translation services or other reasonable accommodations. Please contact the person listed in the section titled FOR FURTHER INFORMATION CONTACT at least seven (7) business days prior to the meeting to give the Department of the Interior sufficient time to process your request. All reasonable accommodation requests are managed on a case-by-case basis.

Individuals in the United States who are deaf, deafblind, hard of hearing, or have a speech disability may dial 711 (TTY, TDD, or TeleBraille) to access telecommunications relay services. Individuals outside the United States should use the relay services offered within their country to make international calls to the point-of-contact in the United States.

Before including your address, phone number, email address, or other personal identifying information in your comment, you should be aware that your entire comment—including your personal identifying information—may be made publicly available at any time. While you can ask us in your comment to withhold your personal identifying information from public review, we cannot guarantee that we will be able to do so.

Authority: 5 U.S.C. ch. 10.

Bryan Newland,
Assistant Secretary—Indian Affairs.

[FR Doc. 2024-12023 Filed 5-31-24; 8:45 am]

BILLING CODE 4337-15-P